DEPARTMENT OF COMMERCE

International Trade Administration

[C-122-848]

Notice of Countervailing Duty Order: Hard Red Spring Wheat From Canada

AGENCY: Import Administration, International Trade Administration, Department of Commerce.

ACTION: Notice of countervailing duty order.

EFFECTIVE DATE: October 23, 2003.

FOR FURTHER INFORMATION CONTACT: Stephen Cho or Audrey Twyman, Import Administration, International Trade Administration, U.S. Department of Commerce, 14th Street and Constitution Avenue, NW., Washington, DC 20230; telephone: (202) 482-3798 or (202) 482-3534, respectively.

Scope of Order

For purposes of this order, the products covered are all varieties of hard red spring (“HRS”) wheat from Canada. This includes, but is not limited to, varieties commonly referred to as Canada Western Red Spring, Canada Western Extra Strong, and Canada Prairie Spring Red. The merchandise subject to this investigation is currently classifiable under the following Harmonized Tariff Schedule of the United States (“HTSUS”) subheadings: 1001.90.10.00, 1001.90.20.05, 1001.90.20.11, 1001.90.20.12, 1001.90.20.13, 1001.90.20.14, 1001.90.20.16, 1001.90.20.19, 1001.90.20.21, 1001.90.20.22, 1001.90.20.23, 1001.90.20.24, 1001.90.20.26, 1001.90.20.29, 1001.90.20.35, and 1001.90.20.96. This investigation does not cover imports of wheat that enter under the subheadings 1001.90.10.00 and 1001.90.20.96 that are not classifiable as hard red spring wheat. Although the HTSUS subheadings are provided for convenience and customs purposes, our written description of the scope of this proceeding is dispositive.

Countervailing Duty Order

In accordance with section 705(a) of the Tariff Act of 1930, as amended (“the Act”), the Department of Commerce (“the Department”) published its final determination that countervailable subsidies are being provided to producers and exporters of HRS wheat from Canada. See Notice of Final Affirmative Countervailing Duty Determinations: Certain Durum and Hard Red Spring Wheat from Canada, 68 FR 52747 (September 5, 2003). On October 16, 2003, in accordance with section 705(d) of the Act, the International Trade Commission notified the Department of its final determination that a U.S. industry is “materially injured” within the meaning of section 705(b)(1)(A) of the Act by reason of imports of HRS wheat from Canada.

Therefore, in accordance with section 706(a)(3) of the Act, the Department will direct U.S. Customs and Border Protection (“CBP”) to assess, upon further advice by the Department, countervailing duties for all relevant entries of HRS wheat from Canada. For all producers and exporters countervailing duties will be assessed on all unliquidated entries of HRS wheat entered, or withdrawn from warehouse, for consumption on or after March 10, 2003, the date of publication of the Department's preliminary determination in the Federal Register ¹ and before July 8, 2003, the date the Department instructed CBP to discontinue the suspension of liquidation in accordance with section 703(d) of the Act,² and on all subject merchandise entered, or withdrawn from warehouse, for consumption on or after the date of publication of the ITC's notice of final determination in the Federal Register.

¹ Preliminary Affirmative Countervailing Duty Determinations and Alignment of Final Countervailing Duty Determination with Final Antidumping Duty Determination: Certain Durum Wheat and Hard Red Spring Wheat From Canada, 68 FR 11374 (March 10, 2003).

² See also, The Statement of Administrative Action, H. Doc. No. 103-316, Vol. 1 at 874 (1994), reprinted in 1994 U.S.C.C.A.N. 3773, 4163).

On or after the date of publication of the ITC's notice of final determination in the Federal Register, CBP officers will require, at the same time as importers would normally deposit estimated duties on this merchandise, cash deposits for the subject merchandise equal to the net subsidy rate, as noted below. The “All Others” rate applies to all exporters of subject merchandise not specifically listed. The cash deposit rates are:

Exporter/manufacturer | Net subsidy rate (percent)
Canadian Wheat Board | 5.29
All Others | 5.29

This notice constitutes the countervailing duty order with respect to HRS wheat from Canada, pursuant to section 706(a) of the Act. Interested parties may contact the Central Records Unit, Room B-099 of the main Commerce building, for copies of an updated list of countervailing duty orders currently in effect.

This countervailing duty order is published in accordance with sections 706(a) and 777(i) of the Act and 19 CFR 351.211.

Dated: October 17, 2003.
James J. Jochum,
Assistant Secretary for Import Administration.

[FR Doc. 03-26795 Filed 10-22-03; 8:45 am]

BILLING CODE 3510-DS-P